DEPARTMENT OF ENERGY

Federal Energy Regulatory Commission

Combined Notice of Filings

Take notice that the Commission has received the following Natural Gas Pipeline Rate and Refund Report filings:

Filings Instituting Proceedings

Docket Numbers: RP12-722-000.

Applicants: Gulf South Pipeline Company, LP.

Description: Amendments to Negotiated Rate Agreements—Add PXS and Bistineau Points Filing #1 to be effective 5/1/2012.

Filed Date: 5/4/12.

Accession Number: 20120504-5102.

Comments Due: 5 p.m. ET 5/16/12.

Docket Numbers: RP12-723-000.

Applicants: Williston Basin Interstate Pipeline Company.

Description: New Pools and Receipt Points to be effective 5/4/2012.

Filed Date: 5/4/12.

Accession Number: 20120504-5110.

Comments Due: 5 p.m. ET 5/16/12.

Docket Numbers: RP12-724-000.

Applicants: Columbia Gas Transmission, LLC.

Description: ISS Implementation Filing to be effective 6/4/2012.

Filed Date: 5/4/12.

Accession Number: 20120504-5138.

Comments Due: 5 p.m. ET 5/16/12.

Docket Numbers: RP12-725-000.

Applicants: Kinder Morgan Interstate Gas Transmission LLC.

Description: Negotiated Rate—2012-05-04 DCP Midstream to be effective 5/7/2012.

Filed Date: 5/4/12.

Accession Number: 20120504-5162.

Comments Due: 5 p.m. ET 5/16/12.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP11-1859-001.

Applicants: Equitrans, L.P.

Description: Refund Report for Pipeline Safety Cost Tracker under Docket No. RP11-1859-001 to be effective N/A.

Filed Date: 5/7/12.

Accession Number: 20120507-5050.

Comments Due: 5 p.m. ET 5/21/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 7, 2012.
Nathaniel J. Davis, Sr.,
Deputy Secretary

[FR Doc. 2012-11713 Filed 5-14-12; 8:45 am]

BILLING CODE 6717-01-P